DEPARTMENT OF COMMERCE

National Oceanic and Atmospheric Administration

50 CFR Part 648

[I.D. 070300B]

New England Fishery Management Council; Meeting

AGENCY: National Marine Fisheries Service (NMFS), National Oceanic and Atmospheric Administration (NOAA), Commerce.

ACTION: Public meeting.

SUMMARY: The New England Fishery Management Council (Council) will hold a 2-day public meeting on July 26 and 27, 2000, to consider actions affecting New England fisheries in the exclusive economic zone (EEZ).

DATES: The meeting will be held on Wednesday, July 26, 2000, beginning at 9:30 a.m. and Thursday, July 27, at 8:30 a.m.

ADDRESSES: The meeting will be held at the Doubletree Hotel—Portland, 1230 Congress Street, Portland, ME 04102; telephone (207) 774-5611. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Wednesday, July 26, 2000

After introductions, the meeting will begin with a Stock Assessment Public Review Workshop. Staff from NMFS's Northeast Fisheries Science Center will present an advisory report on the status of monkfish, with brief updates on the scup, summer flounder and ocean quahog resources. A report from the Groundfish Committee will follow. It will include a lengthy discussion of possible management approaches to Amendment 13 to the Northeast Multispecies Fishery Management Plan for purposes of further consideration and development. Updates on management issues concerning spiny dogfish, sea scallops and the Council's Research Steering Committee will occur later in the day.

Thursday, July 27, 2000

The second day of the meeting will begin with reports on recent activities from the Council Chairman, the Executive Director, the NMFS Regional Administrator, the Northeast Fisheries Science Center and Mid-Atlantic Fishery Management Council liaisons, and representatives of the Coast Guard, NMFS Enforcement, and the Atlantic States Marine Fisheries Commission. The Council's Magnuson-Stevens Act Committee will review comments developed on the reauthorization bills currently before Congress. During the Herring Committee Report to follow, Council staff will present the annual Stock Assessment and Fishery Evaluation (SAFE) Report for herring. The Council also will discuss the Scientific and Statistical Committee's review of SAFE Report elements and approve the annual herring specification recommendations to be forwarded to NMFS for the 2001 fishing year. The Council meeting will adjourn after addressing any other outstanding business.

Although other non-emergency issues not contained in this agenda may come before this Council for discussion, those issues may not be the subject of formal action during this meeting. Council action will be restricted to those issues specifically listed in this notice and any issues arising after publication of this notice that require emergency action under section 305(c) of the Magnuson-Stevens Conservation and Management Act, provided the public has been notified of the Council's intent to take final action to address the emergency.

The New England Council will consider public comments at a minimum of two Council meetings before making recommendations to the National Marine Fisheries Service Regional Administrator on any framework adjustment to a fishery management plan. If she concurs with the adjustment proposed by the Council, the Regional Administrator has the discretion to recommend publication of the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least five days prior to the meeting date.

Dated: July 6, 2000.
Richard W. Surdi,
Acting Director, Office of Sustainable Fisheries, National Marine Fisheries Service.

[FR Doc. 00-17630 Filed 7-11-00; 8:45 am]

BILLING CODE 3510-22-F